DEPARTMENT OF THE INTERIOR

Bureau of Land Management

[ES-020-03-1310-EI]

Notice of Intent To Prepare Planning Analyze/Environmental Assessments

AGENCY: Bureau of Land Management (BLM), Interior.

ACTION: Notice of intent to prepare a Planning Analysis/Environmental Assessment.

SUMMARY: This document provides notice that the Bureau of Land Management (BLM), Jackson Field Office, Eastern States intends to prepare Planning Analysis/Environmental Assessment (PA/EA) to consider leasing one tract of Federal mineral estate for oil and gas exploration and development. The PA/EA will fulfill the needs and obligations set forth by the National Environmental Policy Act (NEPA), the Federal Land Policy and Management Act (FLPMA), and BLM management policies. The BLM will work collaboratively with interested parties to identify the management decisions that are best suited to local, regional, and national needs and concerns.

DATES: This notice initiatives the public scoping process. Comments on issues and planning criteria can be submitted in writing to the address listed below. Due to the limited scope of this PA/EA process, public meetings are not scheduled. BLM will, however, consider requests for one or more public meetings.

ADDRESSES: Send comments to: Bureau of Land Management, Jackson Field Office, 411 Briarwood Drive, Suite 404, Jackson, MS 39206.

FOR FURTHER INFORMATION CONTACT: John Reiss, Lead for PA/EA, Jackson Field Office, (601-977-5400).

SUPPLEMENTARY INFORMATION: The BLM has responsibility to consider nominations to lease Federal mineral estate for oil and gas exploration and development. An interdisciplinary team will be used in the preparation of the PA/EA. The preliminary issues associated with issuance of the lease for Federal Oil and Gas, as identified below, are subject to change as a result of public input. The issues are: (1) Potential impacts of oil and gas leasing and the resulting exploration and development on the surface resources as a result of leasing the federal minerals and (2) consideration of proposed restrictions (lease stipulations), involving future development of this lease (lease rights, surface use, and protection of surface resources). One PA/EA will be prepared for this tract. Tract location, along with acreage, is listed below.

Mississippi, Monroe County, Huntsville Meridian

T14S, R19W: Sec 15, 320 acres; Tract 113, Lots 2, 3, 4 and 5.

Consideration is being given to the request to lease Federal Minerals under this Tract. The Corp Of Engineers is the surface management agency and is requiring a “No Surface Occupancy Stipulation”, as a condition of consent to lease. Operations could be allowed to directionally drill a well under the tract, but will not result in surface disturbance on the tract. However, surface disturbance could occur on lands adjacent to this proposed lease.

Bruce Dawson,
Field Manager, Jackson Field Office.

[FR Doc. 03-30878 Filed 12-12-03; 8:45 am]

BILLING CODE 4310-GJ-M